DEPARTMENT OF HEALTH AND HUMAN SERVICES

Food and Drug Administration

[Docket Nos. FDA-2025-N-0706; FDA-2025-N-0373; FDA-2025-N-0734; FDA-2025-N-0195; FDA-2024-N-5579; FDA-2024-N-5944; FDA-2025-N-0339; FDA-2025-N-0418; FDA-2011-N-0179]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Amber Barrett, Office of Operations, Food and Drug Administration, Three White Flint North, 10A-12M, 11601 Landsdown St., North Bethesda, MD 20852, 301-796-8867, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved By OMB
Title of collection | OMB control No. | Date approval expires
Environmental Impact Considerations | 0910-0322 | 11/30/2028
Registration of Food Facilities | 0910-0502 | 11/30/2028
Manufactured Food Regulatory Program Standards | 0910-0601 | 12/31/2028
Production, Storage, and Transportation of Shell Eggs (preventing Salmonella Enteritidis (SE)) | 0910-0660 | 11/30/2028
Accreditation of Third-Party Certification Bodies to Conduct Food Safety Audits and Issue Certifications | 0910-0750 | 11/30/2028
Sanitary Transportation of Human and Animal Food | 0910-0773 | 11/30/2028
Mitigation Strategies to Protect Food Against Intentional Adulteration | 0910-0812 | 11/30/2028
Tropical Disease Priority Review Vouchers | 0910-0822 | 12/31/2028
Adding Requirement to Submit Mail Tracking Number for Articles of Food Arriving by International Mail and Timeframe for Post-Refusal and Post-Hold Submissions | 0910-0923 | 12/31/2028

Grace R. Graham,
Deputy Commissioner for Policy, Legislation, and International Affairs.

[FR Doc. 2026-03774 Filed 2-24-26; 8:45 am]

BILLING CODE 4164-01-P